SOCIAL SECURITY ADMINISTRATION

[Docket No. SSA-2023-0042]

Public Availability of Social Security Administration Fiscal Year (FY) 2021 Service Contract Inventory

AGENCY: Social Security Administration.

ACTION: Notice of public availability of FY 2021 service contract inventories.

SUMMARY: In accordance with the Consolidated Appropriations Act of 2010, we are publishing this notice to advise the public of the availability of the FY 2021 Service Contract inventory.

FOR FURTHER INFORMATION CONTACT: Ronnetta Mason, Office of Budget, Social Security Administration, 6401 Security Boulevard, Baltimore, MD 21235-6401.

Phone (410) 597-1955, email Ronnetta.Mason@ssa.gov.

SUPPLEMENTARY INFORMATION: This inventory provides information on FY 2021 service contract actions over $25,000. We organized the information by function to show how we distribute contracted resources throughout the agency. We developed the inventory in accordance with guidance issued on December 19, 2011, by the Office of Management and Budget's Office of Federal Procurement Policy (OFPP). OFPP's guidance is available at https://obamawhitehouse.archives.gov/sites/default/files/omb/procurement/memo/service-contract-inventory-guidance.pdf. You can access the inventory and summary of the inventory on our homepage at the following link: https://www.ssa.gov/sci/.

Chad Poist,
Deputy Commissioner for Budget, Finance, and Management.

[FR Doc. 2024-02850 Filed 2-12-24; 8:45 am]

BILLING CODE 4191-02-P